THE NATIONAL FOUNDATION FOR THE ARTS AND THE HUMANITIES

Institute of Museum and Library Services

Notice of Proposed Information Collection Requests: 2022-2024 IMLS Grants to States Program State Program Reporting System Forms

AGENCY: Institute of Museum and Library Services, National Foundation for the Arts and the Humanities.

ACTION: Notice, request for comments, collection of information.

SUMMARY: The Institute of Museum and Library Services (IMLS), as part of its continuing effort to reduce paperwork and respondent burden, conducts a pre-clearance consultation program to provide the general public and Federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. By this notice, IMLS is soliciting comments concerning a plan to continue the IMLS Grants to States Program State Program Reporting System (SPR) electronic data collection which supports both the financial and performance reporting for all grantees. A copy of the proposed information collection request can be obtained by contacting the individual listed below in the ADDRESSES section of this notice.

DATES: Written comments must be submitted to the office listed in the addressee section below on or before June 20, 2021.

ADDRESSES: Send comments to Connie Bodner, Ph.D., Director of Grants Policy and Management, Office of Grants Policy and Management, Institute of Museum and Library Services, 955 L'Enfant Plaza North, SW, Suite 4000, Washington, DC 20024-2135. Dr. Bodner can be reached by telephone at 202-653-4636, by email at cbodner@imls.gov. Office hours are from 8:30 a.m. to 5 p.m., E.T., Monday through Friday, except Federal holidays. Persons who are deaf or hard of hearing (TTY users) can contact IMLS at 202-207-7858 via 711 for TTY-Based Telecommunications Relay Service.

FOR FURTHER INFORMATION CONTACT: Teresa DeVoe, Associate Deputy Director—State Programs, Office of Library Services, Institute of Museum and Library Services, 955 L'Enfant Plaza North, SW, Suite 4000, Washington, DC 20024-2135. Ms. DeVoe can be reached by telephone at 202-653-4778, by email at tdevoe@imls.gov.

SUPPLEMENTARY INFORMATION: IMLS is particularly interested in public comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

The Institute of Museum and Library Services is the primary source of Federal support for the Nation's libraries and museums. We advance, support, and empower America's museums, libraries, and related organizations through grant making, research, and policy development. To learn more, visit www.imls.gov.

II. Current Actions

The Grants to States program is the largest source of Federal funding support for library services in the U.S. Using a population-based formula, more than $160 million is distributed among the State Library Administrative Agencies (SLAAs) every year. SLAAs are official agencies charged by law with the extension and development of library services, and they are located in each of the 50 States of the United States, the District of Columbia, the five Territories, and the three Freely Associated States.

This action is to renew clearance of the forms and instructions for the IMLS State Program Reporting System for the next three years. These forms include SPR Reporting System User Documentation; Grants to States Program Report; Financial Status Report; SPR Phase 3 Reporting; State Legal Officer's Certification of the Authorized Certifying Official; and internet Safety Certification for Applicant Public Libraries, Public Elementary and Secondary School Libraries, and Consortia with Public and/or Public School Libraries.

Agency: Institute of Museum and Library Services.

Title: 2022-2024 IMLS Grants to States Program State Program Reporting System Forms.

OMB Number: 3137-0071.

Frequency: 1 time per year.

Affected Public: State Library Administrative Agencies (SLAAs).

Number of Respondents: 59.

Estimated Average Burden per Response in hours: 47.83.

Estimated Total Annual Burden in hours: 2,821.97.

Total Annualized capital/startup costs: n/a

Total Annual costs: $86,239.40.

Public Comments Invited: Comments submitted in response to this notice will be summarized and/or included in the request for OMB's clearance of this information collection.

Dated: April 16, 2021.
Kim Miller,
Senior Grants Management Specialist, Institute of Museum and Library Services.

[FR Doc. 2021-08254 Filed 4-20-21; 8:45 am]

BILLING CODE 7036-01-P